DEPARTMENT OF HEALTH AND HUMAN SERVICES

National Institutes of Health

Center for Scientific Review; Amended Notice of Meeting

Notice is hereby given of a change in the meeting of the Center for Scientific Review Special Emphasis Panel, October 19, 2003, 5:30 PM to October 21, 2003, 5 p.m., Embassy Suites Hotel, 4300 Military Road, Washington, DC 20015 which was published in the Federal Register on September 9, 2003, 68 FR 53183-53186.

The meeting will be held at the Embassy Suites Hotel, 1250 22nd Street, NW., Washington, DC 20037. The meeting dates and time remain the same. The meeting is closed to the public.

Dated: September 29, 2003.
LaVerne Y. Stringfield,
Director, Office of Federal Advisory Committee Policy.

[FR Doc. 03-25173 Filed 10-02-03; 8:45 am]

BILLING CODE 4140-01-M